DEPARTMENT OF HOMELAND SECURITY

Coast Guard

[USCG-2005-22732]

Impact Study: Increasing Passenger Weight and Size on Passenger Vessels

AGENCY: Coast Guard, Department of Homeland Security.

ACTION: Notice.

SUMMARY: The U.S. Coast Guard is conducting a study of the potential impacts that would result from increasing the passenger weight and size regulatory standards used when calculating the intact stability of domestic passenger vessels. The study will include an assessment of the potential impact on industry, identify the regulations potentially requiring change, develop a regulatory implementation strategy and other work associated with the implementation of new passenger weight and size standards.

DATES: This notice is effective October 27, 2005.

FOR FURTHER INFORMATION CONTACT: If you have questions regarding this notice of study, call William Peters, Office of Design and Engineering Standards (G-MSE-2), Coast Guard, at 202-267-2988, or send an e-mail to Wpeters@comdt.uscg.mil. If you have questions on viewing or submitting material to the docket, call Renee V. Wright, Program Manager, Docket Operations, telephone 202-493-0402.

SUPPLEMENTARY INFORMATION: On March 6, 2004, the small passenger pontoon vessel M/V Lady D suddenly encountered high winds while underway and capsized in the Inner Harbor of Baltimore, MD, resulting in several injuries and fatalities. In the course of its investigation, the National Transportation Safety Board (NTSB) issued Safety Recommendation M-04-04, which recommended that the assumed passenger weight used for simplified stability proof tests on pontoon vessels be raised to more accurately reflect the weight of today's population. The Coast Guard also identified this issue in its pontoon boat stability study and concurred with the NTSB that the standard weight per person needs to be updated to account for the increase in the average weight of today's population. Coast Guard current weight standards apply to all types of passenger vessels. As a result, the Coast Guard's evaluation of the weight standard extends to all passenger vessel types, as opposed to only pontoon vessels.

Recognizing that such a change could have an impact on industry, the environment and its own operations, the Coast Guard decided to engage a qualified consulting organization to perform an in-depth analysis. The contracting process was initiated in June 2005 and a contract was awarded on September 23, 2005.

This one-year project will analyze the impact of increasing passenger weight and size on the domestic passenger vessel industry and recommend the best means by which improved standards could be implemented. The project will be completed in two phases, and will include the following elements:

• Evaluate potential impacts to the domestic passenger vessel fleet caused by an increase in average passenger weight and size;

• Identify the degree of impact on fleet segments;

• Identify and suggest changes to existing regulations;

• Develop efficient implementation strategies; and

• Provide assistance for the development of draft regulatory changes and associated regulatory analyses, including economic and environmental analyses.

Once the study is completed, we will publish a notice in the Federal Register advising that the study's results are available and requesting public comment.

To view documents mentioned in this preamble as well as other documents being available in the docket, go to http://dms.dot.gov at any time, click on “Simple Search,” enter the last five digits of the docket number for this notice, and click on “Search.”

Dated: October 14, 2005.
Howard L. Hime,
Acting Director of Standards, Marine Safety, Security and Environmental Protection.

[FR Doc. 05-21560 Filed 10-26-05; 8:45 pm]

BILLING CODE 4910-15-P